DEPARTMENT OF AGRICULTURE

Animal and Plant Health Inspection Service

[Docket No. APHIS-2007-0085]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the World Organization for Animal Health, the Secretariat of the International Plant Protection Convention, and the North American Plant Protection Organization, and we are soliciting public comment on the standards to be considered.

ADDRESSES: You may submit comments by either of the following methods: Federal eRulemaking Portal: Go to http://www.regulations.gov, select “Animal and Plant Health Inspection Service” from the agency drop-down menu, then click “Submit.” In the Docket ID column, select APHIS-2007-0085 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2007-0085, Regulatory Analysis and Development, PPD, APHIS, Station 3C71, 4700 River Road Unit 118, Riverdale, MD 20737-1238. Please state that your comment refers to Docket No. APHIS-2007-0085.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For general information on the topics covered in this notice, contact Mr. John Greifer, Director, SPS Management Team, International Services, APHIS, room 1132, South Building, 14th Street and Independence Avenue SW.,Washington, DC 20250; (202) 720-7677.

For specific information regarding standard-setting activities of the World Organization for Animal Health, contact Dr. Michael David, Director, Sanitary International Standards Team, National Center for Import and Export, VS, APHIS, 4700 River Road Unit 33, Riverdale, MD 20737-1231; (301) 734-5324.

For specific information regarding the standard-setting activities of the International Plant Protection Convention or the North American Plant Protection Organization, contact Ms. Julie E. Aliaga, Program Director, International Phytosanitary Standards, PPQ, APHIS, 4700 River Road, Riverdale, MD 20737-1236; (301) 734-0763.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

International Standard” is defined in 19 U.S.C. 2578b as any standard, guideline, or recommendation: (1) Adopted by the Codex Alimentarius Commission (Codex) regarding food safety; (2) developed under the auspices of the World Organization for Animal Health (OIE, formerly known as the Office International des Epizooties) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 169 member nations, each of which is represented by a delegate who, in most cases, is the chief veterinary officer of that country. The WTO has recognized the OIE as the international forum for setting animal health standards, reporting global animal disease events, and presenting guidelines and recommendations on sanitary measures relating to animal health.

The OIE facilitates intergovernmental cooperation to prevent the spread of contagious diseases in animals by sharing scientific research among its members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Member countries for certain diseases, categorizes animal diseases with respect to their international significance, publishes bulletins on global disease status, and provides animal disease control guidelines to Member countries. Various OIE commissions and working groups undertake the development and preparation of draft standards, which are then circulated to Member countries for consultation (review and comment). Draft standards are revised accordingly and are then presented to the OIE International Committee (all the Member countries) during the General Session, which meets annually every May, for review and adoption. Adoption, as a general rule, is based on consensus of the OIE membership.

The next OIE General Session is scheduled for May 25-30, 2008, in Paris, France. Currently, the Deputy Administrator of APHIS Veterinary Services is the official U.S. Delegate to the OIE. The Deputy Administrator of APHIS intends to participate in the proceedings and will discuss or comment on APHIS' position on any standard up for adoption. Information about OIE draft Terrestrial Animal Health Code and Aquatic Animal Health Code chapters may be found on the Internet at http://www.aphis.usda.gov/vs/ncie/oie/ or by contacting Dr. Michael David (see FOR FURTHER INFORMATION CONTACT above).

OIE Terrestrial Animal Health Code Chapters and Appendices Adopted

1. Chapter 2.2.10, Foot and Mouth Disease

Guidelines for quicker recovery of status after an outbreak, and the concept of “containment zone” were added.

2. Chapter 2.2.12, Rinderpest, and Appendix 3.8.2, Surveillance for Rinderpest

The Code Chapter and surveillance appendix were adopted as proposed in order to assist several African countries.

3. Chapter 2.2.13, Bluetongue

Minor updates were made to this chapter.

4. Chapter 2.3.13., Bovine Spongiform Encephalopathy

This chapter received only minor changes this year. Specifically, for countries that are classified as “negligible” risk for BSE, but which have had an indigenous case, live cattle and meat-and-bone meal (MBM) should not be traded if the cattle were born or the MBM was produced prior to the implementation of an effective ruminant-to-ruminant feed ban.

5. Section 2.5, Equine Disease

The following Code chapters were updated:

Chapter 2.5.4, Equine infectious anemia; Chapter 2.5.5, Equine influenza; Chapter 2.5.6, Equine piroplasmosis; Chapter 2.5.7, Equine rhinopneumonitis; Chapter 2.5.8, Glanders; and Chapter 2.5.10, Equine viral arteritis.

6. Chapter 2.7.12, Avian Influenza

This chapter received only a few changes this year. Backyard poultry and fighting cocks were included in the definition of “poultry.” In addition, the OIE made it explicit that countries should not impose immediate trade bans when a country reports the detection of highly pathogenic avian influenza in wild birds.

7. Appendix 3.2.1, Bovine and small ruminant semen

The requirement to test for Border disease in sheep was reinstituted.

8. Appendix 3.6.6, General guidelines for the disposal of dead animals

Minor changes were made to this appendix.

9. Appendix 3.7.2, Guidelines for the transport of animals by sea; Appendix 3.7.3, Guidelines for the transport of animals by land; Appendix 3.7.5, Guidelines for the slaughter of animals; and Appendix 3.7.6, Guidelines for the killing of animals for disease control

These guidelines were updated.

OIE Terrestrial Animal Health Code Chapters Up for Adoption

Existing Terrestrial Animal Health Code chapters that may be revised and new chapters that may be drafted in preparation for the next General Session in 2008 include the following:

1. Chapter 1.3.5, Zoning and compartmentalization

These guidelines were refined to clarify some of the basic criteria required to ensure the integrity of a compartment. A checklist on the practical application of compartmentalization for avian influenza and Newcastle diseases was distributed.

2. Chapter 2.5.14, African horse sickness

This is a new chapter that contains draft guidelines provided by the Scientific Commission. It is being circulated to Member countries for comment.

3. Chapter 2.6.6, African swine fever

This new chapter replaces the existing Chapter.

4. Chapter 2.6.7, Classical swine fever; and Appendix 3.8.8, Guidelines for the surveillance of classical swine fever

This chapter and appendix have been extensively rewritten, are being circulated for comment, and will be submitted for adoption in 2008.

5. Chapter 2.7.13, Newcastle disease, and Appendix 3.8.X, Guidelines for the surveillance of Newcastle disease

This draft appendix defines the principles and provides a guide for the surveillance of Newcastle disease.

6. Appendix 3.10.2, Guidelines for the detection, control, and prevention of Salmonella enteritidis and S. typimurium in poultry producing eggs for human consumption

This appendix represents an ongoing complete redrafting of a current OIE Code Chapter. It is being circulated for comment.

7. Draft Appendix, General principles of identification and traceability of live animals

This is a new appendix that provides that animals and products of animal origin should be traceable throughout the animal production and food chain, within the scope of relevant OIE and Codex Alimentarius standards.

8. Draft Guidelines for the control of biological hazards of animal health and public health importance through ante- and post-mortem meat inspection

These new guidelines provide guidance on animal feeding in relation to animal health. They complement the guidance provided by the Codex Code of Practice on Good Animal Feeding (CAC/RCP 54-2004), which deals primarily with food safety.

9. Draft Guidelines on dog population control

These guidelines will form a new chapter that provides for control of stray and feral dog populations.

Code Commission Future Work Program

During the next year, the OIE Code Commission is expected to address the following issues or establish ad hoc groups of experts to update and/or develop standards for the following issues:

1. The harvesting and culling of wildlife.

2. Laboratory animal welfare.

3. Bovine brucellosis.

OIE Aquatic Animal Health Code Chapters and Appendices up for Adoption

Existing Aquatic Animal Health Code chapters that may be revised and new chapters and appendices that have been drafted in preparation for the 2008 General Session include:

Chapter 2.3.7, Crayfish Plague; Chapter 2.3.9, Infectious Myonecrosis; Chapter 2.3.10, Necrotising Hepatopancreatitis; Chapter 2.3.11, White Tail Disease; Chapter 2.3.12, Hepatopancreatic Parvovirus Disease; Chapter 2.3.13, Mourilyan Virus Disease; General Guidelines for Aquatic Animal Health Surveillance; and Guidelines for the Control of Aquatic Animal Health Hazards in Aquatic Animal Feeds.

OIE Aquatic Animal Commission Future Work Program

During the next few years, the OIE Aquatic Animal Commission is expected to address the following issues or establish ad hoc groups of experts to update and/or develop standards for the following issues:

1. Diseases of amphibians.

2. Biosecurity procedures.

The Process

The OIE Code chapters are drafted (or revised) by either the Code Commission or by ad hoc groups composed of technical experts nominated by the Director General of the OIE by virtue of their subject-area expertise. Once a new chapter is drafted or an existing one is revised, the chapter is distributed to Member countries for review and comment. The OIE attempts to provide proposed chapters by late October to allow Member countries sufficient time for comment. Comments are due by early February of the following year. The draft standard is revised by the OIE Code Commission on the basis of relevant scientific comments received from Member countries.

The United States (i.e., USDA/APHIS) intends to review and, where appropriate, comment on all draft chapters and revisions once it receives them from the OIE. USDA/APHIS intends to distribute these drafts to the U.S. livestock and aquaculture industries, veterinary experts in various U.S. academic institutions, and other interested persons for review and comment. Additional information regarding these draft standards may be obtained by contacting Dr. Michael David (see FOR FURTHER INFORMATION CONTACT above).

Generally, if a country has concerns with a particular draft standard, and supports those concerns with sound technical information, the pertinent OIE Code Commission will revise that standard accordingly and present the revised draft for adoption at the General Session in May. In the event that a country's concerns regarding a draft standard are not taken into account, that country may refuse to support the standard when it comes up for adoption at the General Session. However, each Member country is obligated to review and comment on proposed standards, and make decisions regarding the adoption of those standards, strictly on their scientific merits.

Other OIE Topics

Every year at the General Session, at least one technical item is presented. For the May 2008 General Session, the following technical item will be presented:

1. Integrating small farmers in animal health programs.

The information in this notice includes all the information available to us on OIE standards currently under development or consideration. Information on OIE standards is available on the Internet at http://www.oie.int. Further, a formal agenda for the next General Session should be available to Member countries by March 2008, and copies will be available to the public once the agenda is published. For the most current information on meeting times, working groups, and/or meeting agendas, including information on official U.S. participation in OIE activities and U.S. positions on standards being considered, contact Dr. Michael David (see FOR FURTHER INFORMATION CONTACT above). Those wishing to provide comments on any areas of work under the OIE may do so at any time by responding to this notice (see ADDRESSES above) or by providing comments through Dr. Michael David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is under the authority of the Food and Agriculture Organization (FAO), and the members of the Secretariat of the IPPC are appointed by the FAO. The IPPC is implemented by national plant protection organizations in cooperation with regional plant protection organizations; the Commission on Phytosanitary Measures ((CPM), formerly referred to as the International Commission on Phytosanitary Measures (ICPM)); and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the revised IPPC are described below.

Step 1: Proposals for a new international standard for phytosanitary measures (ISPM) or for the review or revision of an existing ISPM are submitted to the Secretariat of the IPPC in a standardized format on a 2-year cycle. Alternatively, the Secretariat can propose a new standard or amendments to existing standards.

Step 2: After review by the Standards Committee and the Strategic Planning and Technical Assistance Working Group, a summary of proposals is submitted by the Secretariat to the CPM. The CPM identifies the topics and priorities for standard setting from among the proposals submitted to the Secretariat and others that may be raised by the CPM.

Step 3: Specifications for the standards identified as priorities by the CPM are drafted by the Secretariat. The draft specifications are submitted to the Standards Committee for approval/amendment and are subsequently made available to members and regional plant protection organizations (RPPOs) for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the CPM for adoption.

Step 7: The ISPM is established through formal adoption by the CPM according to Rule X of the Rules of Procedure of the CPM.

Step 8: Review of the ISPM is completed by the specified date or such other date as may be agreed upon by the CPM.

Each member country is represented on the CPM by a single delegate. Although experts and advisers may accompany the delegate to meetings of the CPM, only the delegate (or an authorized alternate) may represent each member country in considering a standard up for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee. In addition, documents and positions developed by APHIS and NAPPO have been sources of significant input for many of the standards adopted to date. This notice describes each of the IPPC standards currently under consideration or up for adoption. The full text of each standard will be available on the Internet at http://www.aphis.gov/ppq/pim/standards/. Interested individuals may review the standards posted on this Web site and submit comments via the Web site.

The next CPM meeting is scheduled for April 7-11, 2008, at FAO Headquarters in Rome, Italy. The Deputy Administrator for APHIS' PPQ program is the U.S. delegate to the CPM. The Deputy Administrator intends to participate in the proceedings and will discuss or comment on APHIS' position on any standards up for adoption. The provisional agenda for the Third Session of the Interim Commission on Phytosanitary Measures is as follows:

1. Opening of the session.

2. Adoption of the agenda.

3. Report by the chairperson.

4. Report by the Secretariat.

5. Standards up for adoption in 2008.

6. Items arising from the Second Session of the CPM (see section below entitled “New Standard-Setting Initiatives, Including Those in Development” for details).

7. Work program for harmonization.

8. Other business.

9. Date and venue of the next meeting.

10. Adoption of the report.

IPPC Standards Up for Adoption in 2008

It is expected that the following standards will be sufficiently developed to be considered by the CPM for adoption at its 2008 meeting. The United States, represented by APHIS' Deputy Administrator for PPQ, will participate in the consideration of these standards. The U.S. position on each of these issues will be developed prior to the CPM session and will be based on APHIS' analysis, information from other U.S. Government agencies, and relevant scientific information from interested stakeholders.

1. Developing a Strategy To Reduce or Replace the Use of Methyl Bromide for Phytosanitary Purposes

This standard provides guidance to national plant protection organizations (NPPOs) and regional plant protection organizations (RPPOs) in the development of a strategy to reduce or replace the use of methyl bromide as a phytosanitary measure in order to reduce emissions of methyl bromide. The standard outlines areas for action for developing and implementing a national strategy on the use of methyl bromide as a phytosanitary measure.

2. Establishment of Areas of Low Pest Prevalence for Fruit Flies (Tephritidae)

This standard provides guidelines for the establishment and maintenance of areas of low pest prevalence for fruit flies of economic importance (including places and sites of production of low pest prevalence) for use as a risk mitigation measure to facilitate trade of fruits and vegetables. The decision to create a fruit fly area of low pest prevalence (FF-ALPP) for export of a particular host of fruit fly is closely linked to trade opportunities and to economic and operational feasibility.

3. Sampling of Consignments

This standard provides guidance in developing sampling design and determining sampling frequency that may be used as part of the processes used for inspection or for gathering material for testing to ensure compliance with phytosanitary requirements.

4. Classification of Commodities into Phytosanitary Risk Categories

This standard provides guidance on categorizing plant and plant product commodities according to their phytosanitary risk. The categorization is based on the method and level of processing to which a commodity has been subjected and the commodity's intended uses. The standard also provides guidance for determining phytosanitary risk management measures for each category, as appropriate.

5. Supplement to ISPM No. 5 (Glossary of phytosanitary terms): Debarked and Bark-Free Wood

This supplement provides practical guidance to NPPOs on differentiating between debarked wood and bark-free wood, where removal of bark is required to reduce the risk of introduction and/or spread of quarantine pests associated with bark. This supplement does not specify the effectiveness or technical justification of removal of bark.

6. Amendments to ISPM No. 5 (Glossary of phytosanitary terms)

A. The following terms and definitions will be proposed for addition to the glossary of phytosanitary terms in ISPM No. 5:

• Prevalence (of a pest): Proportion of units in a population of plants, plant products, or other articles that is affected by a pest at a given time, or the level of occurrence of a pest in an area at a given time as expressed by a defined index or a range of values.

• Tolerance level: Prevalence of a pest that is a threshold for action to control that pest or to prevent its spread or introduction.

B. The following term and definition will be proposed to be changed as follows:

• Beneficial organisms: Any organism directly or indirectly advantageous to plants or plant products, including biological control agents and sterile insects.

C. The following terms will be proposed for deletion:

• Authority

• Biological pesticide (biopesticide)

• Classical biological control, introduction (of a biological control agent), and establishment (of a biological control agent)

• Exotic

• Import permit (of a biological control agent)

• Micro-organism

• Specificity

New Standard-Setting Initiatives, Including Those in Development

A number of expert working group meetings or other technical consultations will take place during 2007 and 2008 on the topics listed below. These standard-setting initiatives were not completed before April 2007 and, therefore, will not be ready for adoption at the 2008 CPM session. Nonetheless, APHIS intends to participate actively and fully in each of these working groups. The U.S. position on each of the topics to be addressed by these various working groups will be developed prior to these working group meetings and will be based on APHIS' technical analysis, information from other U.S. Government agencies, and relevant scientific information from interested stakeholders.

1. Supplement to ISPM No. 11 (Pest risk analysis for quarantine pests including analysis of environmental risks and living modified organisms): Appropriate Level of Protection

The appropriate level of protection is a concept established beyond the scope and legal competence of the IPPC. Therefore, these guidelines focus primarily on promoting consistency in the development and use of phytosanitary measures.

2. Draft Supplement to ISPM No. 5 (Glossary of phytosanitary terms): Guidelines for the Interpretation and Application of the Term “Not Widely Distributed” in Relation to Quarantine Pests

This supplement provides guidance on the interpretation and application of the term “not widely distributed” in the context of the decision on whether a pest qualifies as a quarantine pest.

3. Systems Approach(es) for Pest Risk Management of Fruit Flies (Tephritidae)

This standard provides guidelines for the establishment and use of systems approach(es) as an option for pest risk management of fruit flies to facilitate trade of fruits. The standard applies to fruit flies (Tephritidae) of economic importance.

4. Revisions of ISPMs No. 7 and 12

Currently there are two ISPMs dealing with export: ISPM No. 7 (Export certification system) and ISPM No. 12 (Guidelines for phytosanitary certificates). These standards briefly describe the procedure to follow in case of re-export and transit shipments requiring phytosanitary certification. As international trade has expanded and means of conveyance have diversified, the need has arisen to provide clearer guidance on re-export and transit phytosanitary certification. In addition, concepts in these standards will be made consistent with other existing standards.

For more detailed information on the above topics, which will be addressed by various working groups established by the CPM, contact Ms. Julie E. Aliaga (see FOR FURTHER INFORMATION CONTACT above).

APHIS posts draft standards on the Internet (http://www.aphis.usda.gov/ppq/pim/standards/) as they become available and provides information on the due dates for comments. Additional information on IPPC standards is available on the FAO's Web site at http://www.ippc.int/IPP/En/default.htm. For the most current information on official U.S. participation in IPPC activities, including U.S. positions on standards being considered, contact Ms. Julie E. Aliaga (see FOR FURTHER INFORMATION CONTACT above). Those wishing to provide comments on any of the areas of work being undertaken by the IPPC may do so at any time by responding to this notice (see ADDRESSES above) or by providing comments through Ms. Aliaga.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to Government and industry officials in Canada, Mexico, and the United States, who may suggest revisions. In the United States, draft standards are circulated to industry, States, and various Government agencies for consideration and comment. The draft standards are posted on the Internet at http://www.aphis.usda.gov/ppq/pim/standards/; interested persons may submit comments via that Web site. Once revisions are made, the proposal is sent to the NAPPO working group and the NAPPO standards panel for technical reviews, and then to the Executive Committee for final approval, which is granted by consensus.

The annual NAPPO meeting is scheduled for October 22-26, 2007, in St. John's Newfoundland-Labrador, Canada. The NAPPO Executive Committee meeting will take place on October 22, 2007, and a special session will be held on October 23, 2007, to solicit comment from industry groups so that suggestions can be incorporated into the NAPPO work plan for the 2008 NAPPO year. The Deputy Administrator for PPQ is a member of the NAPPO Executive Committee. The Deputy Administrator intends to participate in the proceedings and will discuss or comment on APHIS' position on any standard up for adoption or any proposals to develop new standards.

The work plan for 2007 was established after the October 2006 Annual Meeting in Fort McDowell, Arizona. The Deputy Administrator for PPQ participated in establishing this NAPPO work plan (see panel assignments below). Below is a summary of current panel assignments as they relate to the ongoing development of NAPPO standards. The United States(i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at http://www.nappo.org or by contacting Ms. Julie E. Aliaga (see FOR FURTHER INFORMATION CONTACT above).

1. Accreditation Panel

The panel will conduct an in-depth audit of the Canadian system to comply with RSPM No. 8 (The Accreditation of Individuals to Sign Federal Phytosanitary Certificates).

2. Biological Control Panel

The panel will complete a NAPPO discussion paper on taxonomic expertise in biological control activities. The panel will review RSPM No. 7 (Guidelines for Petition for Release of Exotic Phytophagous Agents for the Biological Control of Weeds), and RSPM No. 12 (Guidelines for Petition for Release of Exotic Entomophagous Agents for the Biological Control of Pests), to determine whether they should be archived, in light of revisions to ISPM No. 3 (Guidelines for the export, shipment, import and release of biological control agents and other beneficial organisms).

3. Biotechnology Panel

This panel will continue to develop a NAPPO standard for the importation of transgenic plants into NAPPO member countries. The standard review of products of biotechnology focuses on the assessment of the potential for the new trait to increase the risk the plant could pose to other plants in agriculture or the broader environment.

4. Citrus Panel

The panel will review the citrus production programs in States where Mexico and the United States share borders for compliance with RSPM No. 16 (Guidelines for the Importation of Citrus Propagative Material into a NAPPO Member Country), and RSPM No. 24 (Integrated Pest Risk Management Measures for the Importation of Plants for Planting into NAPPO Member Countries), with the goal of developing regionally harmonized nursery certification programs for citrus nursery stock. The panel is also charged with exchanging technical information on emerging citrus pests such as citrus greening.

5. Electronic Phytosanitary Certification Panel

This panel will conduct a pilot project for electronic phytosanitary certification within the NAPPO region.

6. Forestry Panel

This panel will draft a NAPPO standard on preventing the entry of asian gypsy moth into North America. It will continue to provide leadership in the design and delivery of NAPPO workshops on the implementation of ISPM No. 15 (Guidelines for regulating wood packaging material in international trade). The panel will investigate and report on the technical impacts of Phytophthora ramorum on conifer forests, and analyze collected data and report on the incidence of pests associated with bark on wood packaging that has been marked according to ISPM No. 15.

In addition, the panel will provide technical support to the IPPC (International Forest Quarantine Research Group and Technical Panel on Forest Quarantine), particularly with regard to the risks associated with bark on treated wood packaging.

7. Fruit Panel

The panel will develop a NAPPO standard on accreditation of laboratories for diagnostics of fruit pests and develop a NAPPO standard on equivalence in the application of detection and identification tools for fruit pests, including guidelines for quality control.

8. Fruit Tree Panel

The panel will finalize the bacteria and fungi appendices for RSPM No. 25 (Guidelines for International Movement of Pome and Stone Fruit Trees into a NAPPO Member Country), and will begin to work on the insect and nematode appendices. The panel will update the appendix on viruses in RSPM No. 25 with additions or changes, host and literature references.

9. Grains Panel

This panel, in collaboration with the Pest Risk Analysis Panel, will review the latest scientific information on Karnal bunt, Tilletia indica. The panel will develop recommended actions to harmonize the management of soybean rust (Phakopsora pachyrizi) in NAPPO member countries. In addition, the panel will develop a NAPPO strategic plan to prepare for the possible arrival of new races of black stem rust of wheat, such as Puccinia graminis f.sp. tritici, race TTKS, based on the pest risk assessment prepared by the NAPPO Pest Risk Analysis Panel.

10. Grapevine Panel

The panel will complete the appendices of significant arthropod and nematode pests of grapevines for RSPM No. 15 (Guidelines for the Importation of Grapevines into a NAPPO Member Country). The panel will begin to work on the bacteria and fungi appendices for RSPM No. 15 and update the appendix on viruses.

11. Invasive Species Panel

This panel will define the scope of invasive alien species in the context of NAPPO and will begin development of a NAPPO standard for evaluating the potential invasiveness of plants for planting. The panel will also begin development of a NAPPO standard for identifying and prioritizing pest introduction pathways (pathway analysis). In addition, the panel will coordinate and clarify NAPPO's invasive species efforts with those of the North American Commission for Environmental Cooperation and other North American international treaties, conventions, and trilateral activities.

This year, the panel will coordinate with the NAPPO Working Group to develop the agenda and speakers for the Invasive Species Symposium at the October 2007 NAPPO Annual Meeting.

12. Pest Risk Analysis Panel

The panel will prepare a NAPPO pest risk analysis on black stem rust, UG 99, Puccinia graminis, for the NAPPO Grains panel and, in collaboration with this panel, will review the latest scientific information on Karnal bunt, Tilletia indica Mitra.

13. Phytosanitary Alert System Panel

This panel continuously posts timely pest alerts on the NAPPO web site, reviews automated data surveillance technologies to streamline data mining processes, and determines ways to improve official pest reporting through the Phytosanitary Alert System.

14. Plants for Planting

The panel will report on progress in achieving the implementation plan for RSPM No. 24 (Integrated Pest Risk Management Measures for the Importation of Plants for Planting in NAPPO Member Countries). In addition, the panel will clarify the meaning of the term “origin” in ISPM No. 12 (Guidelines for phytosanitary certificates), in particular for re-exports of seeds.

15. Potato Panel

The panel will finalize protocols for the detection and identification of Clavibacter michiganensis subsp. sepedonicus as Appendix 6 to the NAPPO Potato Standard, RSPM No. 3, and finalize the protocols for the isolation and identification of regulated nematodes of potato as Appendix 7 to the Potato Standard. The panel will determine the accuracy of Appendix 5, Per-Shipment Testing for PVYn, based on the current knowledge of the North American PVY complex, and will identify the requirements for recognition of pest freedom for golden nematode Globodera rostochiensis and the potato cyst nematode Globodera pallida, based on International Standards for Phytosanitary Measures.

16. Standards Panel

The panel will coordinate and review new and amended NAPPO standards and implementation plans; provide updates on NAPPO standards and ISPMs for the NAPPO Newsletter; exchange and discuss comments on draft ISPMs within NAPPO and with other RPPOs to build consensus on draft ISPMs and other issues related to the IPPC; organize conference calls and prepare NAPPO discussion documents where possible to confirm positions on key issues for North American representatives to FAO expert working groups; update the NAPPO Glossary, taking into account new definitions and standards; and review NAPPO position papers and policy documents to verify current relevance.

The PPQ Deputy Administrator, as the official U.S. delegate to NAPPO, intends to participate in the adoption of these regional plant health standards, including the work described above, once they are completed and ready for such consideration.

The information in this notice includes all the information available to us on NAPPO standards currently under development or consideration. For updates on meeting times and for information on the working panels that may become available following publication of this notice, check the NAPPO Web site on the Internet at http://www.nappo.org or contact Ms. Julie E. Aliaga (see FOR FURTHER INFORMATION CONTACT above). Information on official U.S. participation in NAPPO activities, including U.S. positions on standards being considered, may also be obtained from Ms. Aliaga. Those wishing to provide comments on any of the topics being addressed by any of the NAPPO panels may do so at any time by responding to this notice (see ADDRESSES above) or by transmitting comments through Ms. Aliaga.

Done in Washington, DC, this 19th day of September 2007.
Kevin Shea,
Acting Administrator,Animal and Plant Health Inspection Service.

[FR Doc. E7-18877 Filed 9-24-07; 8:45 am]

BILLING CODE 3410-34-P